DEPARTMENT OF ENERGY

Federal Energy Regulatory Commission

[Docket No. CP01-19-000]

Chinook Pipeline Company; Notice of Application

November 1, 2000.

Take notice that on October 26, 2000, Chinook Pipeline Company (Chinook Pipeline), 2400, 645-7th Avenue, SW., Calgary, Alberta, Canada T2P 4G8, filed an application in Docket No. CP01-19-000, for a Presidential Permit and for authority under Section 3 of the Natural Gas Act to construct, connect, maintain and operate certain natural gas facilities at the border of the United States and Canada in Blaine County, Montana. The application was filed pursuant to Part 153 of the Commission's Regulations (18 CFR 153). The facilities will be used to export up to 15,000 Mcf per day of natural gas, all as more fully set forth in the application which is on file with the Commission and open to public inspection. This filing may also be viewed on the web at http://www.ferc.fed.us/online/rims.htm (call 202-208-2222 for assistance). The name, address, and telephone/fax numbers of the applicant's representative, to whom correspondence and communications concerning this application should be address is: Wade J. McGowan, Chinook Pipeline Company, 2400, 645-7th Avenue, SW., Calgary, Alberta, Canada T2P 4G8, (403) 265-1200 (Phone) or (403) 265-1300 (Fax).

Chinook Pipeline is a wholly owned subsidiary of Xeno. Inc. (Xeno), a Montana Corporation. The proposed facilities are part of Chinook Pipeline's proposed project to construct, own and operate a 15.7 mile long, six-inch diameter gas pipeline from Xeno's existing Battle Creek natural gas plant in Blaine County, Montana, to the U.S.-Canada border. The proposed pipeline will cross the international boundary and connect to a receipt point at Loomis, Saskatchewan. This receipt point will be constructed by Many Islands Pipeline, a subsidiary of TransGas of Regina, Saskatchewan.

Chinook Pipeline requests that the Commission expeditiously grant the authorizations herein requested so as to enable it to construct and commence service through the proposed border crossing facilities as soon as possible, in order to begin service for the upcoming 2000-2001 winter heating season.

Any person desiring to be heard or to make any protest with reference to said application should on or before November 22, 2000, file with the Federal Energy Regulatory Commission, Washington, D.C. 20426, a petition to intervene or a protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. Any person wishing to become a party to a proceeding or to participate as a party in any hearing therein must file a petition to intervene in accordance with the Commission's Rules. Comments and protests may be filed electronically via the internet in lieu of paper. See, 18 CFR 385.2001(a)(1)(iii) and the instructions on the Commission's web site at http;//www.ferc.fed.us/efi/doorbell.htm.

Take further notice that, pursuant to the authority contained in and subject to the jurisdiction conferred upon the Federal Energy Regulatory Commission by Sections 3 and 15 of the Natural Gas Act and the Commission's Rules of Practice and Procedure, a hearing will be held without further notice before the Commission or its designee on this application if no petition to intervene is filed within the time required herein, if the Commission on its own review of the matter finds that a grant of the certificate is required by the public convenience and necessity. If a petition for leave is timely filed, or if the Commission on its own motion believes that a formal hearing is required, further notice of such hearing will be duly given. Under the procedure provided for, unless otherwise advised, it will be unnecessary for Chinook Pipeline to appear or be represented at the hearing.

David P. Boergers,
Secretary.

[FR Doc. 00-28465 Filed 11-6-00; 8:45 am]

BILLING CODE 6717-01-M